DEPARTMENT OF TRANSPORTATION

Federal Aviation Administration

14 CFR Part 71

[Docket No. FAA-2005-23157; Airspace Docket No. 05-ANM-15]

Amendment to Class E Airspace; Kalispell, MT

AGENCY: Federal Aviation Administration (FAA), DOT.

ACTION: Final rule.

SUMMARY: This action revises the Class E airspace at Kalispell, MT. Additional controlled airspace is necessary for the safety of Instrument Flight Rules (IFR) aircraft executing the published Instrument Landing System (ILS) approach procedures to the newly extended runway at Kalispell/Glacier Park International Airport, Kalispell, MT.

DATES: Effective Date: 0901 UTC, September 28, 2006.

FOR FURTHER INFORMATION CONTACT: Ed Haeseker, Federal Aviation Administration, Western En Route and Oceanic Area Office, Airspace Branch, 1601 Lind Avenue SW., Renton, WA, 98055-4056; telephone (425) 227-2527.

SUPPLEMENTARY INFORMATION:

History

On December 28, 2005, the FAA published in the Federal Register a notice of proposed rulemaking to revise Class E airspace at Kalispell, MT (71 FR 16250). This action would provide additional controlled airspace for the safety of IFR aircraft executing the published ILS approach procedures to the newly extended runway at Kalispell/Glacier Park International Airport, Kalispell, MT. Interested parties were invited to participate in this rulemaking effort by submitting written comments on the proposal to the FAA. No comments were received.

Class E airspace designations are published in paragraph 6002 of FAA Order 7400.9O, effective September 15, 2006, which is incorporated by reference in 14 CFR 71.1. The Class E airspace designations listed in this document will be published subsequently in that Order.

The Rule

This action amends Title 14 Code of Federal Regulations (14 CFR) part 71 by revising Class E airspace at Kalispell, MT. Additional controlled airspace is necessary for the safety of IFR aircraft executing the published ILS approach procedures to the newly extended runway at Kalispell/Glacier Park International Airport, Kalispell, MT.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9O, Airspace Designations and Reporting Points, updated yearly, effective September 15, 2006, is amended as follows:

Paragraph 6002—Class E Airspace Designated As a Surface Area.

* * * * *

ANM MT E Kalispell, MT [Revised]

Kalispell/Glacier Park International Airport, MT

(lat. 48°18′38″ N., long. 114°15′22″ W.)

Smith Lake NDB

(lat. 48°06′30″ N., long. 114°27′40″ W.)

Within a 4.3-mile radius of the Kalispell/Glacier Park International Airport, and within 1.8 miles each side of the 035° bearing from the Smith Lake NDB extending southwest from the 4.3-mile radius to the Smith Lake NDB.

* * * * *

Issued in Seattle, Washington, on July 13, 2006.
Clark Desing,
System Support, Western Service Area.

[FR Doc. E6-11649 Filed 7-21-06; 8:45 am]

BILLING CODE 4910-13-P